DEPARTMENT OF HOMELAND SECURITY

Coast Guard

33 CFR Part 165

[CGD09-07-010]

RIN 1625-AA00

Safety Zones; Annual Fireworks Events in the Captain of the Port Milwaukee Zone

AGENCY: Coast Guard, DHS.

ACTION: Notice of enforcement of regulation.

SUMMARY: The Coast Guard will enforce the Rockets for Schools safety zone on Lake Michigan near Sheboygan, WI on May 5, 2007. This action is necessary to protect the public from the hazards associated with rocket launches. During the enforcement period no person or vessel may enter the safety zone without the permission of the Captain of the Port or his designated representative.

DATES: The zone will be enforced from 9 a.m. through 4 p.m. on May 5, 2007.

FOR FURTHER INFORMATION CONTACT: CWO Brad Hinken, Prevention Department, Coast Guard Sector Lake Michigan, 2420 South Lincoln Memorial Drive, Milwaukee, WI at (414) 747-7154.

SUPPLEMENTARY INFORMATION: We are publishing this document to provide notice that under the provisions of 33 CFR 165.909(a)(12), the Rockets for Schools safety zone on Lake Michigan near Sheboygan, WI will be enforced on May 5, 2007 from 9 a.m. through 4 p.m. The safety zone consists of all waters and adjacent shoreline around the south breakwall area, Lake Michigan encompassed by the arc of a circle with a 1260-foot radius with its center in position 43°44′56″ N, 087°42′06″ W (NAD 83). This zone will encompass the entrance to Sheboygan Harbor and will result in its closure while the safety zone is in effect.

In order to ensure the safety of spectators and transiting vessels, this safety zone will be in effect for the duration of the event. In the event that this safety zone effects shipping, commercial vessels may request permission from the Captain of the Port Lake Michigan to transit through the safety zone.

Requests must be made in advance and approved by the Captain of the Port before transits will be authorized. The Captain of the Port may be contacted via U.S. Coast Guard Sector Lake Michigan on channel 16, VHF-FM. The Coast Guard will give notice to the public via a Broadcast Notice to Mariners that the regulation is in effect.

Dated: March 29, 2007.
B.C. Jones,
Captain, U.S. Coast Guard, Captain of the Port Sector Lake Michigan.

[FR Doc. E7-6424 Filed 4-5-07; 8:45 am]

BILLING CODE 4910-15-P